DEPARTMENT OF HOMELAND SECURITY

United States Immigration and Customs Enforcement

[Docket No. ICEB-2016-0001]

Advisory Committee on Family Residential Centers Meeting

AGENCY: Immigration and Customs Enforcement, DHS.

ACTION: Notice of Federal Advisory Committee Meeting.

SUMMARY: The U.S. Immigration and Customs Enforcement (ICE) Advisory Committee on Family Residential Centers (ACFRC) will meet in San Antonio, TX to brief Committee members on ICE's family residential centers and to review and assess the Committee tasking. This meeting will be open to the public. Due to limited seating, individuals who wish to attend the meeting in person are required to register online at www.ice.gov/acfrc.

DATES: The Advisory Committee on Family Residential Centers will meet on Wednesday, March 16, 2016, from 9:00 a.m. to 2:00 p.m. Please note that these meetings may conclude early if the Committee has completed all business.

ADDRESSES: The meeting will be held in the 2nd floor conference room of the United States Citizenship and Immigration Services San Antonio Field Office at 8940 Fourwinds Drive, San Antonio, TX 78239.

For information on facilities, services for individuals with disabilities, or to request special assistance at the meeting, contact Mr. John Amaya, Designated Federal Officer, at ICE_ACFRC@ice.dhs.gov.

FOR FURTHER INFORMATION CONTACT: Mr. John Amaya, Designated Federal Officer for the Advisory Committee on Family Residential Centers, at ICE_ACFRC@ice.dhs.gov.

SUPPLEMENTARY INFORMATION: Notice of this meeting is given under the Federal Advisory Committee Act, (Title 5, United States Code Appendix). Written statements may be submitted to the ACFRC Designated Federal Officer (DFO) (see FOR FURTHER INFORMATION CONTACT). Statements should be no longer than two type-written pages and address the following details: the issue, discussion, and recommended course of action. Additional information, including the agenda and electronic registration details, is available on the ACFRC Web site at www.ice.gov/acfrc.

Meeting Agenda

The agenda for the Advisory Committee on Family Residential Centers meeting is as follows:

Wednesday, March 16, 2016

(1) Welcome and Opening Remarks

(2) ICE Enforcement and Removal Operations Briefing

(3) Review Previously Issued Committee Tasking on Recommendations for Best Practices at Family Residential Centers

(4) Public Comment

(5) Closing Remarks

(6) Adjourn

The meeting agenda, Committee tasking, and all meeting documentation will be made available online at: www.ice.gov/acfrc. Alternatively, you may contact Mr. John Amaya as noted in the FOR FURTHER INFORMATION CONTACT section above.

A public oral comment period will be held at the end of the day. Speakers are requested to limit their comments to 2 minutes. Please note that the public comment period may end before the time indicated, following the last call for comments.

Molly Stubbs,
Acting Deputy Assistant Director, Office of Policy, U.S. Immigration and Customs Enforcement.

[FR Doc. 2016-04286 Filed 2-26-16; 8:45 am]

BILLING CODE 9110-28-P